Title 3—

The President

Notice of November 9, 2000

Continuation of Iran Emergency

On November 14, 1979, by Executive Order 12170, the President declared a national emergency to deal with the threat to the national security, foreign policy, and economy of the United States constituted by the situation in Iran. Since that time, notices of the continuation of this national emergency have been transmitted annually by the President to the Congress and published in the Federal Register. The most recent notice appeared in the Federal Register on November 5, 1999. Because our relations with Iran have not yet returned to normal, and the process of implementing the January 19, 1981, agreements with Iran is still underway, the national emergency declared on November 14, 1979, must continue in effect beyond November 14, 2000. Therefore, in accordance with section 202(d) of the National Emergencies Act (50 U.S.C. 1622(d)), I am continuing the national emergency with respect to Iran for 1 year. This notice shall be published in the Federal Register and transmitted to the Congress.

wj

THE WHITE HOUSE,

November 9, 2000.

[FR Doc. 00-29242

Filed 11-9-00; 1:20 pm]

Billing code 3195-01-P